Title 3—

The President

Proclamation 10726 of April 8, 2024

National Former Prisoner of War Recognition Day, 2024

By the President of the United States of America

A Proclamation

On this day, we honor the more than half a million brave patriots who sacrificed their freedom as prisoners of war—risking their own safety for the safety of their fellow Americans. We recommit to fulfilling our country's one truly sacred obligation: to prepare and equip those we send into harm's way and to care for them and their families when they return home and when they do not.

Last September, I visited a memorial in Hanoi for my friend, former United States Senator John McCain, who had been imprisoned there for five and a half years when he was a Lieutenant Commander in the Navy. I reflected on the unfathomable conditions and pain that he and so many others have endured as prisoners of war. It was a solemn reminder of the grave costs of war and the immense sacrifices American service members are willing to make to defend our Nation. They have always embodied the highest expectations of our democracy—daring all and risking all so that our country remains free and our people remain safe. We owe them and their families, caregivers, and survivors a debt of gratitude we can never fully repay but will never cease trying to fulfill.

Today, and every day, we recommit to this vow. We honor the unbending courage and unshakable devotion of our former prisoners of war. We reaffirm our commitment to bringing home all those still missing or unaccounted for. We pledge to keep faith in all these heroes and their families—just as they have kept ultimate faith in our Nation.

May God bless our former prisoners of war and their families, caregivers, and survivors—and may God protect our troops.

NOW, THEREFORE, I, JOSEPH R. BIDEN JR., President of the United States of America, by virtue of the authority vested in me by the Constitution and the laws of the United States, do hereby proclaim April 9, 2024, as National Former Prisoner of War Recognition Day. I call upon Americans to observe this day by honoring the service and sacrifice of all former prisoners of war as our Nation expresses its eternal gratitude for their service. I also call upon Federal, State, and local government officials and organizations to observe this day with appropriate ceremonies and activities.

IN WITNESS WHEREOF, I have hereunto set my hand this eighth day of April, in the year of our Lord two thousand twenty-four, and of the Independence of the United States of America the two hundred and forty-eighth.

[FR Doc. 2024-07844

Filed 4-10-24; 11:15 am]

Billing code 3395-F4-P